ENVIRONMENTAL PROTECTION AGENCY

40 CFR Part 52

[EPA-R04-OAR-2024-0174; FRL-12570-02-R4]

Air Plan Approval; Alabama; Administrative Corrections and VOC Definition

AGENCY: Environmental Protection Agency (EPA).

ACTION: Final rule.

SUMMARY: The Environmental Protection Agency (EPA) is approving a State Implementation Plan (SIP) revision submitted by the State of Alabama, through the Alabama Department of Environmental Management (ADEM) on December 20, 2023. The revision modifies the State's air quality regulations as incorporated into the SIP by changing the definition of “volatile organic compounds” (VOC) to be consistent with federal regulations. The revision also addresses typographical errors and increases clarity and consistency with EPA's definitions and Alabama's Legislative Services Agency requirements.

DATES: This rule is effective June 9, 2025.

ADDRESSES: EPA has established a docket for this action under Docket Identification No. EPA-R04-OAR-2024-0174. All documents in the docket are listed on the regulations.gov website. Although listed in the index, some information may not be publicly available, i.e., Confidential Business Information or other information whose disclosure is restricted by statute. Certain other material, such as copyrighted material, is not placed on the internet and will be publicly available only in hard copy form. Publicly available docket materials are available either electronically through www.regulations.gov or in hard copy at the Air Regulatory Management Section, Air Planning and Implementation Branch, Air and Radiation Division, U.S. Environmental Protection Agency, Region 4, 61 Forsyth Street SW, Atlanta, Georgia 30303-8960. EPA requests that, if at all possible, you contact the person listed in the FOR FURTHER INFORMATION CONTACT section to schedule your inspection. The Regional Office's official hours of business are Monday through Friday 8:30 a.m. to 4:30 p.m., excluding Federal holidays.

FOR FURTHER INFORMATION CONTACT: Weston Freund, Air Regulatory Management Section, Air Planning and Implementation Branch, Air and Radiation Division, Region 4, U.S. Environmental Protection Agency, 61 Forsyth Street SW, Atlanta, Georgia 30303-8960. The telephone number is (404) 562-8773. Mr. Freund can also be reached via electronic mail at freund.weston@epa.gov.

SUPPLEMENTARY INFORMATION:

I. This Action

EPA is approving changes to the Alabama SIP submitted by the State of Alabama through a letter dated December 20, 2023,¹ amending Chapter No. 335-3-1, General Provisions; Chapter No. 335-3-5, Control of Sulfur Compound Emissions; and Chapter No. 335-3-8, Nitrogen Oxides Emissions, to be consistent with federal regulations, address typographical errors, and increase clarity and consistency with EPA's definitions and Alabama's Legislative Services Agency requirements.

¹ Alabama submitted other revisions to the SIP under the December 20, 2023, cover letter that are not addressed in this rulemaking. EPA will act on those SIP revisions in separate rulemakings.

Through a notice of proposed rulemaking (NPRM), published on March 7, 2025 (90 FR 11500), EPA proposed to approve the December 20, 2023, changes to Alabama Administrative Code Rule 335-3-1-.02, Definitions; Rules 335-3-5-.10, TR SO2 Trading Program—Computation of Time; 335-3-5-.11, Administrative Appeal Procedures; 335-3-5-.14, Authorization of Designated Representative and Alternate Designated Representative; 335-3-5-.15, Responsibilities of Designated Representative and Alternate Designated Representative; 335-3-5-.16, Changing Designated Representative and Alternate Designated Representative; Changes in Owners and Operators; Changes in Units at the Source; 335-3-5-.17, Certificate of Representation; 335-3-5-.19, Delegation by Designated Representative and Alternate Designated Representative; 335-3-5-.22, Recordation of TR SO2 Allowance Allocations and Auction Results; 335-3-5-.23, Submission of TR SO2 Allowance Transfers; 335-3-5-.24, Recordation of TR SO2 Allowance Transfers; 335-3-5-.25, Compliance with TR SO2 Emissions Limitation; 335-3-5-.26, Compliance with TR SO2 Assurance Provisions; 335-3-5-.28, Account Error; 335-3-5-.29, Administrator's Action on Submissions; 335-3-5-.33, Monitoring System Out-of-Control Periods; 335-3-5-.34, Notifications Concerning Monitoring; 335-3-5-.35, Recordkeeping and Reporting; and 335-3-5-.36, Petitions for Alternatives to Monitoring, Recordkeeping, or Reporting Requirements; and Rules 335-3-8-.11, TR NOX Annual Trading Program—Computation of Time; 335-3-8-.12, Administrative Appeal Procedures; 335-3-8-.16, Authorization of Designated Representative and Alternate Designated Representative; 335-3-8-.17, Responsibilities of Designated Representative and Alternate Designated Representative; 335-3-8-.18, Changing Designated Representative and Alternate Designated Representative; Changes in Owners and Operators; Changes in Units at the Source; 335-3-8-.19, Certificate of Representation; 335-3-8-.21, Delegation by Designated Representative and Alternate Designated Representative; 335-3-8-.24, Recordation of TR NOX Annual Allowance Allocations and Auction Results; 335-3-8-.25, Submission of TR NOX Annual Allowance Transfers; 335-3-8-.26, Recordation of TR NOX Annual Allowance Transfers; 335-3-8-.27, Compliance with TR NOX Annual Emissions Limitation; 335-3-8-.28, Compliance with TR NOX Annual Assurance Provisions; 335-3-8-.30, Account Error; 335-3-8-.31, Administrator's Action on Submissions; 335-3-8-.35, Monitoring System Out-of-Control Periods; 335-3-8-.36, Notifications Concerning Monitoring; 335-3-8-.37, Recordkeeping and Reporting; 335-3-8-.38, Petitions for Alternatives to Monitoring, Recordkeeping, or Reporting Requirements; 335-3-8-.43, TR NOX Ozone Season Group 2 Trading Program—Computation of Time; 335-3-8-.44, Administrative Appeal Procedures; 335-3-8-.48, Authorization of Designated Representative and Alternate Designated Representative; 335-3-8-.49, Responsibilities of Designated Representative and Alternate Designated Representative; 335-3-8-.50, Changing Designated Representative and Alternate Designated Representative; Changes in Owners and Operators; Changes in Units at the Source; 335-3-8-.51, Certificate of Representation; 335-3-8-.53, Delegation by Designated Representative and Alternate Designated Representative; 335-3-8-.56, Recordation of TR NOX Ozone Season Group 2 Allowance Allocations and Auction Results; 335-3-8-.57, Submission of TR NOX Ozone Season Group 2 Allowance Transfers; 335-3-8-.58, Recordation of TR NOX Ozone Season Group 2 Allowance Transfers; 335-3-8-.59, Compliance with TR NOX Ozone Season Group 2 Emissions Limitation; 335-3-8-.60, Compliance with TR NOX Ozone Season Group 2 Assurance Provisions; 335-3-8-.62, TR NOX Ozone Season Group 2 Trading Program—Account Error; 335-3-8-.63, TR NOX Ozone Season Group 2 Trading Program—Administrator's Action on Submissions; 335-3-8-.67, Monitoring System Out-of-Control Periods; 335-3-8-.68, Notifications Concerning Monitoring; 335-3-8-.69, Recordkeeping and Reporting; 335-3-8-.70, Petitions for Alternatives to Monitoring, Recordkeeping, or Reporting Requirements; and 335-3-8-.71, NOX Budget Program. The details of Alabama's submission, as well as EPA's rationale for approving the changes, are described in more detail in the March 7, 2025, NPRM. Comments on the NPRM, were due on or before April 7, 2025. Two adverse comments and two comments in support were received on the NPRM.

II. Response to Comments

All comments received on the NPRM are provided in the docket for this final action. Summaries of the adverse comments and EPA's responses to these comments are provided below.

Comment 1: A commenter recommends that EPA “not approve the AL state plan by lowering the standards and redefining definitions.” The commenter contends that approval will result in people suffering negative consequences from poor air quality.

Response 1: EPA disagrees with the commenter because the revisions to Alabama's SIP will not lower any standards. The amendments to Chapter No. 335-3-1, General Provisions, revise the definition of “volatile organic compounds” (VOC) by adding “trans-1,1,1,4,4,4 hexafluorobut-2-ene (HFO-1336mzz(E))” to the list of organic compounds that are exempted from being considered in the regulatory definition of VOC. This is done in accordance with EPA's revision of its VOC definition at 40 CFR 51.100(s) on February 8, 2023, which took into consideration effects on human health and the environment as part of the review process and exempted this compound because of its negligible reactivity. See 88 FR 8226. EPA's longstanding policy is that compounds of carbon with negligible reactivity need not be regulated to reduce ozone and should be excluded from the regulatory definition of VOC. Additionally, the amendments to Chapter No. 335-3-5, Control of Sulfur Compound Emissions and Chapter No. 335-3-8, Nitrogen Oxides Emissions are administrative in nature and merely address typographical errors and bring the amended rules into compliance with Alabama's Legislative Services Agency requirements.

Comment 2: A commenter summarizes EPA's proposed action in the March 27, 2025, NPRM as proposing to incorporate federal requirements for fine particulate matter (PM2.5) into Alabama's Prevention of Significant Deterioration (PSD) permitting program to align the State's permitting process with the federal PM2.5 standards. The commenter then provides comments, questions, and supporting evidence on environmental justice, public health impacts, monitoring and enforcement, economic impacts, stakeholder engagement, and the timeline for implementation in the context of PSD permitting requirements for the federal PM2.5 standards.

Response 2: These comments are not relevant to EPA's action on Alabama's December 20, 2023, SIP revision as proposed in the March 7, 2025, NPRM. The SIP revision at issue in the NPRM and in this final rule does not address Alabama's PSD permitting program. The SIP revision only modifies the definition of “volatile organic compounds” (VOC) to be consistent with federal regulations, addresses typographical errors, and makes administrative changes to certain rules within Chapter Nos. 335-3-5 and 335-3-8, as discussed above.

Alabama did submit a SIP revision on December 20, 2023, consisting of changes to certain air permit regulations that have been amended by the State agency since EPA last approved those provisions; however, EPA will address these revisions in a separate rulemaking.

III. Incorporation by Reference

In this document, EPA is finalizing regulatory text that includes incorporation by reference. In accordance with requirements of 1 CFR 51.5, and as discussed in Section I and II of this preamble, EPA is finalizing the incorporation by reference of Alabama Administrative Code Rule 335-3-1-.02, Definitions; ² Rules 335-3-5-.10, TR SO2 Trading Program—Computation of Time; 335-3-5-.11, Administrative Appeal Procedures; 335-3-5-.14, Authorization of Designated Representative and Alternate Designated Representative; 335-3-5-.15, Responsibilities of Designated Representative and Alternate Designated Representative; 335-3-5-.16, Changing Designated Representative and Alternate Designated Representative; Changes in Owners and Operators; Changes in Units at the Source; 335-3-5-.17, Certificate of Representation; 335-3-5-.19, Delegation by Designated Representative and Alternate Designated Representative; 335-3-5-.22, Recordation of TR SO2 Allowance Allocations and Auction Results; 335-3-5-.23, Submission of TR SO2 Allowance Transfers; 335-3-5-.24, Recordation of TR SO2 Allowance Transfers; 335-3-5-.25, Compliance with TR SO2 Emissions Limitation; 335-3-5-.26, Compliance with TR SO2 Assurance Provisions; 335-3-5-.28, Account Error; 335-3-5-.29, Administrator's Action on Submissions; 335-3-5-.33, Monitoring System Out-of-Control Periods; 335-3-5-.34, Notifications Concerning Monitoring; 335-3-5-.35, Recordkeeping and Reporting; and 335-3-5-.36, Petitions for Alternatives to Monitoring, Recordkeeping, or Reporting Requirements; and Rules 335-3-8-.11, TR NOX Annual Trading Program—Computation of Time; 335-3-8-.12, Administrative Appeal Procedures; 335-3-8-.16, Authorization of Designated Representative and Alternate Designated Representative; 335-3-8-.17, Responsibilities of Designated Representative and Alternate Designated Representative; 335-3-8-.18, Changing Designated Representative and Alternate Designated Representative; Changes in Owners and Operators; Changes in Units at the Source; 335-3-8-.19, Certificate of Representation; 335-3-8-.21, Delegation by Designated Representative and Alternate Designated Representative; 335-3-8-.24, Recordation of TR NOX Annual Allowance Allocations and Auction Results; 335-3-8-.25, Submission of TR NOX Annual Allowance Transfers; 335-3-8-.26, Recordation of TR NOX Annual Allowance Transfers; 335-3-8-.27, Compliance with TR NOX Annual Emissions Limitation; 335-3-8-.28, Compliance with TR NOX Annual Assurance Provisions; 335-3-8-.30, Account Error; 335-3-8-.31, Administrator's Action on Submissions; 335-3-8-.35, Monitoring System Out-of-Control Periods; 335-3-8-.36, Notifications Concerning Monitoring; 335-3-8-.37, Recordkeeping and Reporting; 335-3-8-.38, Petitions for Alternatives to Monitoring, Recordkeeping, or Reporting Requirements; 335-3-8-.43, TR NOX Ozone Season Group 2 Trading Program—Computation of Time; 335-3-8-.44, Administrative Appeal Procedures; 335-3-8-.48, Authorization of Designated Representative and Alternate Designated Representative; 335-3-8-.49, Responsibilities of Designated Representative and Alternate Designated Representative; 335-3-8-.50, Changing Designated Representative and Alternate Designated Representative; Changes in Owners and Operators; Changes in Units at the Source; 335-3-8-.51, Certificate of Representation; 335-3-8-.53, Delegation by Designated Representative and Alternate Designated Representative; 335-3-8-.56, Recordation of TR NOX Ozone Season Group 2 Allowance Allocations and Auction Results; 335-3-8-.57, Submission of TR NOX Ozone Season Group 2 Allowance Transfers; 335-3-8-.58, Recordation of TR NOX Ozone Season Group 2 Allowance Transfers; 335-3-8-.59, Compliance with TR NOX Ozone Season Group 2 Emissions Limitation; 335-3-8-.60, Compliance with TR NOX Ozone Season Group 2 Assurance Provisions; 335-3-8-.62, TR NOX Ozone Season Group 2 Trading Program—Account Error; 335-3-8-.63, TR NOX Ozone Season Group 2 Trading Program—Administrator's Action on Submissions; 335-3-8-.67, Monitoring System Out-of-Control Periods; 335-3-8-.68, Notifications Concerning Monitoring; 335-3-8-.69, Recordkeeping and Reporting; 335-3-8-.70, Petitions for Alternatives to Monitoring, Recordkeeping, or Reporting Requirements; and 335-3-8-.71, NOX Budget Program, state effective February 12, 2024, which address typographical errors and increase clarity and consistency with EPA's definitions and Alabama's Legislative Services Agency requirements. EPA has made, and will continue to make, these materials generally available through www.regulations.gov and at the EPA Region 4 Office (please contact the person identified in the FOR FURTHER INFORMATION CONTACT section of this preamble for more information). Therefore, these materials have been approved by EPA for inclusion in the State implementation plan, have been incorporated by reference by EPA into that plan, are fully federally enforceable under sections 110 and 113 of the CAA as of the effective date of the final rulemaking of EPA's approval, and will be incorporated by reference in the next update to the SIP compilation.³

² EPA is also correcting the Chapter 335-3-1 title from “General Provision” to “General Provisions” in 40 CFR 52.50(c).

³ See 62 FR 27968 (May 22, 1997).

IV. Final Action

EPA is approving Alabama's December 20, 2023, SIP revision consisting of the aforementioned changes to Chapter No. 335-3-1, General Provisions; Chapter No. 335-3-5, Control of Sulfur Compound Emissions; and Chapter No. 335-3-8, Nitrogen Oxides Emissions for the reasons discussed above.

V. Statutory and Executive Order Reviews

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and EPA will submit a rule report to each House of the Congress and to the Comptroller General of the United States. This action is not a “major rule” as defined by 5 U.S.C. 804(2).

Under section 307(b)(1) of the CAA, petitions for judicial review of this action must be filed in the United States Court of Appeals for the appropriate circuit by July 8, 2025. Filing a petition for reconsideration by the Administrator of this final rule does not affect the finality of this action for the purposes of judicial review nor does it extend the time within which a petition for judicial review may be filed and shall not postpone the effectiveness of such rule or action. This action may not be challenged later in proceedings to enforce its requirements. See section 307(b)(2).

List of Subjects in 40 CFR Part 52

Environmental protection, Air pollution control, Incorporation by reference, Nitrogen dioxide, Ozone, Reporting and recordkeeping requirements, Sulfur oxides, Volatile organic compounds.

Dated: April 29, 2025.
Kevin McOmber,
Regional Administrator, Region 4.

For the reasons stated in the preamble, EPA amends 40 CFR part 52 as follows:

PART 52—APPROVAL AND PROMULGATION OF IMPLEMENTATION PLANS

1. The authority citation for part 52 continues to read as follows:

Authority: 42 U.S.C. 7401 et seq.

Subpart B—Alabama

2. In § 52.50(c), amend the table by:

a. Revising the title for “Chapter 335-3-1 General Provisions”, and

b. Revising the entries for “Section 335-3-1-.02, Definitions”; “Section 335-3-5-.10, TR SO2 Trading Program—Computation of Time”; “Section 335-3-5-.11, Administrative Appeal Procedures”; “Section 335-3-5-.14, Authorization of Designated Representative and Alternate Designated Representative”; “Section 335-3-5-.15, Responsibilities of Designated Representative and Alternate Designated Representative”; “Section 335-3-5-.16, Changing Designated Representative and Alternate Designated Representative; Changes in Owners and Operators; Changes in Units at the Source”; “Section 335-3-5-.17, Certificate of Representation”; “Section 335-3-5-.19, Delegation by Designated Representative and Alternate Designated Representative”; “Section 335-3-5-.22, Recordation of TR SO2 Allowance Allocations and Auction Results”; “Section 335-3-5-.23, Submission of TR SO2 Allowance Transfers”; “Section 335-3-5-.24, Recordation of TR SO2 Allowance Transfers”; “Section 335-3-5-.25, Compliance with TR SO2 Emissions Limitation”; “Section 335-3-5-.26, Compliance with TR SO2 Assurance Provisions”; “Section 335-3-5-.28, Account Error”; “Section 335-3-5-.29, Administrator's Action on Submissions”; “Section 335-3-5-.33, Monitoring System Out-of-Control Periods”; “Section 335-3-5-.34, Notifications Concerning Monitoring”; “Section 335-3-5-.35, Recordkeeping and Reporting”; “Section 335-3-5-.36, Petitions for Alternatives to Monitoring, Recordkeeping, or Reporting Requirements”; “Section 335-3-8-.11, TR NOX Annual Trading Program—Computation of Time”; “Section 335-3-8-.12, Administrative Appeal Procedures”; “Section 335-3-8-.16, Authorization of Designated Representative and Alternate Designated Representative”; “Section 335-3-8-.17, Responsibilities of Designated Representative and Alternate Designated Representative”; “Section 335-3-8-.18, Changing Designated Representative and Alternate Designated Representative; Changes in Owners and Operators; Changes in Units at the Source”; “Section 335-3-8-.19, Certificate of Representation”; “Section 335-3-8-.21, Delegation by Designated Representative and Alternate Designated Representative”; “Section 335-3-8-.24, Recordation of TR NOX Annual Allowance Allocations and Auction Results”; “Section 335-3-8-.25, Submission of TR NOX Annual Allowance Transfers”; “Section 335-3-8-.26, Recordation of TR NOX Annual Allowance Transfers”; “Section 335-3-8-.27, Compliance with TR NOX Annual Emissions Limitation”; “Section 335-3-8-.28, Compliance with TR NOX Annual Assurance Provisions”; “Section 335-3-8-.30, Account Error”; “Section 335-3-8-.31, Administrator's Action on Submissions”; “Section 335-3-8-.35, Monitoring System Out-of-Control Periods”; “Section 335-3-8-.36, Notifications Concerning Monitoring”; “Section 335-3-8-.37, Recordkeeping and Reporting”; “Section 335-3-8-.38, Petitions for Alternatives to Monitoring, Recordkeeping, or Reporting Requirements”; “Section 335-3-8-.43, TR NOX Ozone Season Group 2 Trading Program—Computation of Time”; “Section 335-3-8-.44, Administrative Appeal Procedures”; “Section 335-3-8-.48, Authorization of Designated Representative and Alternate Designated Representative”; “Section 335-3-8-.49, Responsibilities of Designated Representative and Alternate Designated Representative”; “Section 335-3-8-.50, Changing Designated Representative and Alternate Designated Representative; Changes in Owners and Operators; Changes in Units at the Source”; “Section 335-3-8-.51, Certificate of Representation”; “Section 335-3-8-.53, Delegation by Designated Representative and Alternate Designated Representative”; “Section 335-3-8-.56, Recordation of TR NOX Ozone Season Group 2 Allowance Allocations and Auction Results”; “Section 335-3-8-.57, Submission of TR NOX Ozone Season Group 2 Allowance Transfers”; “Section 335-3-8-.58, Recordation of TR NOX Ozone Season Group 2 Allowance Transfers”; “Section 335-3-8-.59, Compliance with TR NOX Ozone Season Group 2 Emissions Limitation”; “Section 335-3-8-.60, Compliance with TR NOX Ozone Season Group 2 Assurance Provisions”; “Section 335-3-8-.62, TR NOX Ozone Season Group 2 Trading Program—Account Error”; “Section 335-3-8-.63, TR NOX Ozone Season Group 2 Trading Program—Administrator's Action on Submissions”; “Section 335-3-8-.67, Monitoring System Out-of-Control Periods”; “Section 335-3-8-.68, Notifications Concerning Monitoring”; “Section 335-3-8-.69, Recordkeeping and Reporting”; “Section 335-3-8-.70, Petitions for Alternatives to Monitoring, Recordkeeping, or Reporting Requirements”; and “Section 335-3-8-.71, NOX Budget Program”.

The amendments read as follows:

§ 52.50 Identification of plan.

* * * * *

(c) * * *

Table 1 to Paragraph (c)—EPA-Approved Alabama Regulations
State citation | Title/subject | State effective date | EPA approval date | Explanation
* * * * * * *
Chapter No. 335-3-1 General Provisions
* * * * * * *
Section 335-3-1-.02 | Definitions | 2/12/2024 | 5/9/2025, 90 FR [Insert Federal Register page where the document begins] |
* * * * * * *
Chapter No. 335-3-5 Control of Sulfur Compound Emissions
* * * * * * *
Section 335-3-5-.10 | TR SO2 Trading Program—Computation of Time | 2/12/2024 | 5/9/2025, 90 FR [Insert Federal Register page where the document begins] |
Section 35-3-5-.11 | Administrative Appeal Procedures | 2/12/2024 | 5/9/2025, 90 FR [Insert Federal Register page where the document begins] |
* * * * * * *
Section 335-3-5-.14 | Authorization of Designated Representative and Alternate Designated Representative | 2/12/2024 | 5/9/2025, 90 FR [Insert Federal Register page where the document begins] |
Section 335-3-5-.15 | Responsibilities of Designated Representative and Alternate Designated Representative | 2/12/2024 | 5/9/2025, 90 FR [Insert Federal Register page where the document begins] |
Section 335-3-5-.16 | Changing Designated Representative and Alternate Designated Representative; Changes in Owners and Operators; Changes in Units at the Source | 2/12/2024 | 5/9/2025, 90 FR [Insert Federal Register page where the document begins] |
Section 335-3-5-.17 | Certificate of Representation | 2/12/2024 | 5/9/2025, 90 FR [Insert Federal Register page where the document begins] |
* * * * * * *
Section 335-3-5-.19 | Delegation by Designated Representative and Alternate Designated Representative | 2/12/2024 | 5/9/2025, 90 FR [Insert Federal Register page where the document begins] |
* * * * * * *
Section 335-3-5-.22 | Recordation of TR SO2 Allowance Allocations and Auction Results | 2/12/2024 | 5/9/2025, 90 FR [Insert Federal Register page where the document begins] |
Section 335-3-5-.23 | Submission of TR SO2 Allowance Transfers | 2/12/2024 | 5/9/2025, 90 FR [Insert Federal Register page where the document begins] |
Section 335-3-5-.24 | Recordation of TR SO2 Allowance Transfers | 2/12/2024 | 5/9/2025, 90 FR [Insert Federal Register page where the document begins] |
Section 335-3-5-.25 | Compliance with TR SO2 Emissions Limitation | 2/12/2024 | 5/9/2025, 90 FR [Insert Federal Register page where the document begins] |
Section 335-3-5-.26 | Compliance with TR SO2 Assurance Provisions | 2/12/2024 | 5/9/2025, 90 FR [Insert Federal Register page where the document begins] |
* * * * * * *
Section 335-3-5-.28 | Account Error | 2/12/2024 | 5/9/2025, 90 FR [Insert Federal Register page where the document begins] |
Section 335-3-5-.29 | Administrator's Action on Submissions | 2/12/2024 | 5/9/2025, 90 FR [Insert Federal Register page where the document begins] |
* * * * * * *
Section 335-3-5-.33 | Monitoring System Out-of-Control Periods | 2/12/2024 | 5/9/2025, 90 FR [Insert Federal Register page where the document begins] |
Section 335-3-5-.34 | Notifications Concerning Monitoring | 2/12/2024 | 5/9/2025, 90 FR [Insert Federal Register page where the document begins] |
Section 335-3-5-.35 | Recordkeeping and Reporting | 2/12/2024 | 5/9/2025, 90 FR [Insert Federal Register page where the document begins] |
Section 335-3-5-.36 | Petitions for Alternatives to Monitoring, Recordkeeping, or Reporting Requirements | 2/12/2024 | 5/9/2025, 90 FR [Insert Federal Register page where the document begins] |
* * * * * * *
Chapter No. 335-3-8 Control of Nitrogen Oxide Emissions
* * * * * * *
Section 335-3-8-.11 | TR NOX Annual Trading Program—Computation of Time | 2/12/2024 | 5/9/2025, 90 FR [Insert Federal Register page where the document begins] |
Section 335-3-8-.12 | Administrative Appeal Procedures | 2/12/2024 | 5/9/2025, 90 FR [Insert Federal Register page where the document begins] |
* * * * * * *
Section 335-3-8-.16 | Authorization of Designated Representative and Alternate Designated Representative | 2/12/2024 | 5/9/2025, 90 FR [Insert Federal Register page where the document begins] |
Section 335-3-8-.17 | Responsibilities of Designated Representative and Alternate Designated Representative | 2/12/2024 | 5/9/2025, 90 FR [Insert Federal Register page where the document begins] |
Section 335-3-8-.18 | Changing Designated Representative and Alternate Designated Representative; Changes in Owners and Operators; Changes in Units at the Source | 2/12/2024 | 5/9/2025, 90 FR [Insert Federal Register page where the document begins] |
Section 335-3-8-.19 | Certificate of Representation | 2/12/2024 | 5/9/2025, 90 FR [Insert Federal Register page where the document begins] |
* * * * * * *
Section 335-3-8-.21 | Delegation by Designated Representative and Alternate Designated Representative | 2/12/2024 | 5/9/2025, 90 FR [Insert Federal Register page where the document begins] |
* * * * * * *
Section 335-3-8-.24 | Recordation of TR NOX Annual Allowance Allocations and Auction Results | 2/12/2024 | 5/9/2025, 90 FR [Insert Federal Register page where the document begins] |
Section 335-3-8-.25 | Submission of TR NOX Annual Allowance Transfers | 2/12/2024 | 5/9/2025, 90 FR [Insert Federal Register page where the document begins] |
Section 335-3-8-.26 | Recordation of TR NOX Annual Allowance Transfers | 2/12/2024 | 5/9/2025, 90 FR [Insert Federal Register page where the document begins] |
Section 335-3-8-.27 | Compliance with TR NOX Annual Emissions Limitation | 2/12/2024 | 5/9/2025, 90 FR [Insert Federal Register page where the document begins] |
Section 335-3-8-.28 | Compliance with TR NOX Annual Assurance Provisions | 2/12/2024 | 5/9/2025, 90 FR [Insert Federal Register page where the document begins] |
* * * * * * *
Section 335-3-8-.30 | Account Error | 2/12/2024 | 5/9/2025, 90 FR [Insert Federal Register page where the document begins] |
Section 335-3-8-.31 | Administrator's Action on Submissions | 2/12/2024 | 5/9/2025, 90 FR [Insert Federal Register page where the document begins] |
* * * * * * *
Section 335-3-8-.35 | Monitoring System Out-of-Control Periods | 2/12/2024 | 5/9/2025, 90 FR [Insert Federal Register page where the document begins] |
Section 335-3-8-.36 | Notifications Concerning Monitoring | 2/12/2024 | 5/9/2025, 90 FR [Insert Federal Register page where the document begins] |
Section 335-3-8-.37 | Recordkeeping and Reporting | 2/12/2024 | 5/9/2025, 90 FR [Insert Federal Register page where the document begins] |
Section 335-3-8-.38 | Petitions for Alternatives to Monitoring, Recordkeeping, or Reporting Requirements | 2/12/2024 | 5/9/2025, 90 FR [Insert Federal Register page where the document begins] |
* * * * * * *
Section 335-3-8-.43 | TR NOX Ozone Season Group 2 Trading Program—Computation of Time | 2/12/2024 | 5/9/2025, 90 FR [Insert Federal Register page where the document begins] |
Section 335-3-8-.44 | Administrative Appeal Procedures | 2/12/2024 | 5/9/2025, 90 FR [Insert Federal Register page where the document begins] |
* * * * * * *
Section 335-3-8-.48 | Authorization of Designated Representative and Alternate Designated Representative | 2/12/2024 | 5/9/2025, 90 FR [Insert Federal Register page where the document begins] |
Section 335-3-8-.49 | Responsibilities of Designated Representative and Alternate Designated Representative | 2/12/2024 | 5/9/2025, 90 FR [Insert Federal Register page where the document begins] |
Section 335-3-8-.50 | Changing Designated Representative and Alternate Designated Representative; Changes in Owners and Operators; Changes in Units at the Source | 2/12/2024 | 5/9/2025, 90 FR [Insert Federal Register page where the document begins] |
Section 335-3-8-.51 | Certificate of Representation | 2/12/2024 | 5/9/2025, 90 FR [Insert Federal Register page where the document begins] |
* * * * * * *
Section 335-3-8-.53 | Delegation by Designated Representative and Alternate Designated Representative | 2/12/2024 | 5/9/2025, 90 FR [Insert Federal Register page where the document begins] |
* * * * * * *
Section 335-3-8-.56 | Recordation of TR NOX Ozone Season Group 2 Allowance Allocations and Auction Results | 2/12/2024 | 5/9/2025, 90 FR [Insert Federal Register page where the document begins] |
Section 335-3-8-.57 | Submission of TR NOX Ozone Season Group 2 Allowance Transfers | 2/12/2024 | 5/9/2025, 90 FR [Insert Federal Register page where the document begins] |
Section 335-3-8-.58 | Recordation of TR NOX Ozone Season Group 2 Allowance Transfers | 2/12/2024 | 5/9/2025, 90 FR [Insert Federal Register page where the document begins] |
Section 335-3-8-.59 | Compliance with TR NOX Ozone Season Group 2 Emissions Limitation | 2/12/2024 | 5/9/2025, 90 FR [Insert Federal Register page where the document begins] |
Section 335-3-8-.60 | Compliance with TR NOX Ozone Season Group 2 Assurance Provisions | 2/12/2024 | 5/9/2025, 90 FR [Insert Federal Register page where the document begins] |
* * * * * * *
Section 335-3-8-.62 | TR NOX Ozone Season Group 2 Trading Program—Account Error | 2/12/2024 | 5/9/2025, 90 FR [Insert Federal Register page where the document begins] |
Section 335-3-8-.63 | TR NOX Ozone Season Group 2 Trading Program—Administrator's Action on Submissions | 2/12/2024 | 5/9/2025, 90 FR [Insert Federal Register page where the document begins] |
* * * * * * *
Section 335-3-8-.67 | Monitoring System Out-of-Control Periods | 2/12/2024 | 5/9/2025, 90 FR [Insert Federal Register page where the document begins] |
Section 335-3-8-.68 | Notifications Concerning Monitoring | 2/12/2024 | 5/9/2025, 90 FR [Insert Federal Register page where the document begins] |
Section 335-3-8-.69 | Recordkeeping and Reporting | 2/12/2024 | 5/9/2025, 90 FR [Insert Federal Register page where the document begins] |
Section 335-3-8-.70 | Petitions for Alternatives to Monitoring, Recordkeeping, or Reporting Requirements | 2/12/2024 | 5/9/2025, 90 FR [Insert Federal Register page where the document begins] |
Section 335-3-8-.71 | NOX Budget Program | 2/12/2024 | 5/9/2025, 90 FR [Insert Federal Register page where the document begins] |
* * * * * * *

* * * * *

[FR Doc. 2025-08091 Filed 5-8-25; 8:45 am]

BILLING CODE 6560-50-P